DEPARTMENT OF TRANSPORTATION

Federal Aviation Administration

[Docket No.: FAA-2019-0573; Summary Notice No. -2022-14]

Petition for Exemption; Summary of Petition Received; Amazon Prime Air

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before March 22, 2022.

ADDRESSES: Send comments identified by docket number FAA-2019-0573 using any of the following methods:

• Federal eRulemaking Portal: Go to http://www.regulations.gov and follow the online instructions for sending your comments electronically.

• Mail: Send comments to Docket Operations, M-30; U.S. Department of Transportation, 1200 New Jersey Avenue SE, Room W12-140, West Building, Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Nia Daniels, (202) 267-7626, Office of Rulemaking, Federal Aviation Administration, 800 Independence Avenue SW, Washington, DC 20591.

This notice is published pursuant to 14 CFR 11.85.

Issued in Washington, DC.
Timothy R. Adams,
Deputy Executive Director, Office of Rulemaking.

Petition for Exemption

Docket No.: FAA-2019-0573.

Petitioner: Amazon Prime Air.

Sections of 14 CFR Affected: §§ 61.3(a), 61.23(a)(2), 61.113(a), 61.133, 91.7(a), 91.113(b)-(f), 91.119(b) and (c), 91.121, 91.151(a), 91.151(b), 135.25(a)(1) and (a)(2), 135.63(c) and (d), 135.65(d), 135.93, 135.95(a), 135.149(a), 135.161(a)(1)-(3), 135.203(a), 135.203(b), 135.209(a), 135.209(b), 135.243(b)(1) and (b)(2).

Description of Relief Sought: Amazon Prime Air (Amazon) seeks to amend its existing exemptions (Exemption Nos. 18601 and 18602), which permit operations under a part 135 air carrier operating certificate with an unmanned aircraft system (UAS), to enable the petitioner's commercial delivery operations using UASs. Amazon requests that the FAA amend these exemptions to cover the MK27-2 drone system and to modify the conditions and limitations of the exemptions to reflect the upgraded capabilities and enhanced safety of the MK27-2. Specifically, Amazon seeks to remove several conditions and limitations that the FAA imposed based on the capabilities of Amazon's original MK27. Amazon also seeks to remove the requirements for each pilot-in-command, check pilot, and flight instructor to hold a private pilot certificate issued under part 61 and a second class medical certificate in accordance with § 61.23(a)(2). Amazon states that the purpose of the amendments is to reflect enhancements to Amazon's UAS and operating procedures.

[FR Doc. 2022-04349 Filed 3-1-22; 8:45 am]

BILLING CODE 4910-13-P